DEPARTMENT OF COMMERCE

National Oceanic and Atmospheric Administration

Agency Information Collection Activities; Submission to the Office of Management and Budget (OMB) for Review and Approval; Comment Request; Socioeconomics of Coral Reef Conservation

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 26, 2021.

ADDRESSES: Interested persons are invited to submit written comments to Adrienne Thomas, NOAA PRA Officer, at Adrienne.thomas@noaa.gov. Please reference OMB Control Number 0648-0646 in the subject line of your comments. Do not submit Confidential Business Information or otherwise sensitive or protected information.

FOR FURTHER INFORMATION CONTACT: Requests for additional information or specific questions related to collection activities should be directed to Mary Allen, NOAA Office for Coastal Management, Coral Reef Conservation Program, 1305 East-West Highway, Silver Spring, MD 20910, Telephone (240) 533-0784 or Mary.Allen@noaa.gov.

SUPPLEMENTARY INFORMATION:

I. Abstract

This request is for the revision and extension of a currently approved information collection under OMB Control Number 0648-0646. The information collection is part of the National Coral Reef Monitoring Program (NCRMP), which was established by the National Oceanic and Atmospheric Administration (NOAA) Coral Reef Conservation Program (CRCP) under the authority of the Coral Reef Conservation Act of 2000. The CRCP was created to safeguard and ensure the welfare of the coral reef ecosystems along the coastlines of America's states and territories. In accordance with its mission goals, NOAA developed a survey to track relevant information regarding each jurisdiction's population, social and economic structure, the benefits of coral reefs and related habitats, the impacts of society on coral reefs, and the impacts of coral management on communities. The survey is repeated in each jurisdiction every five to seven years in order to provide longitudinal data and information for managers to effectively conserve coral reefs for current and future generations.

The purpose of this information collection is to obtain human dimensions information from residents in the seven United States (U.S.) jurisdictions containing coral reefs: Florida, U.S. Virgin Islands (USVI), Puerto Rico, Hawaii, American Samoa, Guam, and the Commonwealth of the Northern Mariana Islands (CNMI). Specifically, NOAA is seeking information on the behaviors and activities related to coral reefs, as well as information on perceptions of coral reef conditions and attitudes toward specific reef conservation activities. Each survey has a core set of questions that are the same for all jurisdictions to allow for information to be tracked over time. To account for geographical, cultural and linguistic differences between jurisdictions, the survey questions include items that are specific to the local context and developed based on jurisdictional partner feedback.

We intend to use the information collected through this instrument for research purposes, as well as for measuring and improving the results of our reef protection programs. Because many of our efforts to protect reefs rely on education and changing attitudes toward reef protection, the information collected will allow CRCP to ensure that programs are designed appropriately at the start, future program evaluation efforts are as successful as possible, and outreach efforts are targeting the intended recipients with useful information.

Pursuant to a request from the Office of Management and Budget (OMB), this collection of information is being revised to restructure these surveys as a hybrid-generic collection.

II. Method of Collection

Information will be collected using the most efficient and effective methodology that is feasible in the individual jurisdiction. For the three years covered by this clearance, data will be collected via in-person interviews in American Samoa, Puerto Rico, Guam, and the Commonwealth of the Northern Mariana Islands (CNMI).

III. Data

OMB Control Number: 0648-0646.

Form Number(s): None.

Type of Review: Regular submission [Revision and extension of an existing information collection].

Affected Public: Individuals or households.

Estimated Number of Respondents: 9,840.

Estimated Time per Response: 20 minutes per response.

Estimated Total Annual Burden Hours: 1,093 hours.

Estimated Total Annual Cost to Public: $0 in recordkeeping/reporting costs.

Respondent's Obligation: Voluntary.

Legal Authority: Coral Reef Conservation Act of 2000.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-01475 Filed 1-22-21; 8:45 am]

BILLING CODE 3510-JS-P